DEPARTMENT OF DEFENSE

Department of the Army

Notice of availability of the Final Environmental Impact Statement (FEIS) for the Permanent Stationing of the 2nd Brigade, 25th Infantry Division Stryker Brigade Combat Team (SBCT)

AGENCY: Department of the Army, DoD.

ACTION: Notice of availability (NOA).

SUMMARY: The Department of the Army announces the availability of a FEIS for the permanent stationing of the 2nd Brigade, 25th Infantry Division (2/25th) SBCT. Pursuant to the National Environmental Policy Act (NEPA), the Department of the Army has prepared an Environmental Impact Statement (EIS) to disclose potential impacts to the natural, physical, and human environment resulting from the permanent stationing of the 2/25th SBCT. Potential impacts have been analyzed at installations that are capable of meeting the SBCTs training, operational, Soldier and Family quality of life, and strategic deployment requirements. This FEIS identifies Schofield Barracks Military Reservation in Hawaii as the Army's preferred alternative for the stationing location of the 2/25th SBCT. A Record of Decision (ROD) will announce the final location decision after the 30-day waiting period for the FEIS has been completed.

DATES: The waiting period for the FEIS will end 30 days after publication of an NOA in the Federal Register by the U.S. Environmental Protection Agency.

ADDRESSES: Send all written comments concerning this EIS to: Public Affairs Office, U.S. Army Environmental Command, Building E4460, 5179 Hoadley Road, Attention: IMAE-PA, Aberdeen Proving Ground, MD 21010-5401. E-mail comments should be sent to: PublicComments@aec.apgea.army.mil.

FOR FURTHER INFORMATION CONTACT: Public Affairs Office at (410) 436-2556; facsimile: (410) 436-1693 during normal business hours Monday through Friday 9 a.m. to 5 p.m. eastern standard time.

SUPPLEMENTARY INFORMATION: The proposed action and analysis within the FEIS covers those activities required to implement the stationing of the 2/25th SBCT. These activities include garrison construction, training range construction, live-fire training, and maneuver training.

In May 2004, the Department of the Army (Army) released the FEIS for Transformation of the 2nd Brigade, 25th Infantry Division (Light) to the 2/25th SBCT. The SBCT is a maneuver brigade that includes approximately 4,100 Soldiers (infantry, artillery, engineers, and other Army specialties) and 1,000 vehicles (including about 320 Stryker Combat Vehicles). In July 2004, the Army released a ROD documenting its decision to transform the 2/25th from an Infantry Brigade to an SBCT and permanently home station it in Hawaii.

The Stryker is an armored infantry wheeled combat vehicle and provides Soldiers and commanders with increased firepower, maneuverability, and, most importantly, survivability in a combat environment. The increased speed and maneuver capabilities of the SBCT allow operations to be conducted across much larger areas than the Army's traditional legacy brigades. These capabilities have allowed the SBCT to successfully conduct a broad range of missions in support of Operation Iraqi Freedom.

To be effective when operationally deployed abroad requires that the SBCT have the proper training and support facilities at home station. Such facilities include training ranges, maneuver land, housing, administrative, and quality of life infrastructure for the SBCTs Soldiers, their Families, vehicles, and equipment. Without these resources, the SBCT cannot attain the readiness levels needed to ensure the successful accomplishment of its missions and safety of its Soldiers. In addition to these requirements, the SBCT must be stationed in a location from which it can rapidly deploy to support national security requirements.

The 2/25th began its transformation to an SBCT shortly after completion of the 2004 FEIS and signing of the ROD. Since this time, the Brigade has completed its transformation in Hawaii and is currently deployed to Southwest Asia. The SBCT is scheduled to return to the permanent stationing location selected by the Army in early 2009.

In October 2006, the Federal Court of Appeals for the Ninth Circuit determined that the Army had not fully complied with NEPA for the transformation of the 2/25th because it did not adequately address or analyze potentially reasonable alternative locations for the transformation and training of this unit. In particular, the Court concluded that the Army had a duty under NEPA to consider locations other than Hawaii for the permanent stationing of the 2/25th SBCT, and the Court ordered the Army to prepare an EIS to address a broader range of alternatives. The Army has prepared an EIS in accordance with the Court's guidance to examine reasonable alternative locations for the proposed action to station the 2/25th SBCT permanently.

The Army analyzed 140 installations for their suitability to meet the appropriate training infrastructure, maneuver land, compatible mission and garrison support infrastructure to support the SBCT. Out of the 140 installations, three Army installations were determined to have the appropriate infrastructure capable of supporting the permanent stationing of the 2/25th SBCT. The FEIS examines the three Army installations. The EIS will provide the Army senior leadership with a hard look at environmental impacts associated with the proposed action and better inform their decision-making process for selecting the final stationing location. This effort includes analysis of all activities (training, facilities construction, and Soldier and Family support) required to permanently station the 2/25th SBCT. This EIS effort will assist the Army in arriving at a decision that can accommodate the Brigade's training, operations, and quality of life requirements while meeting the strategic defense needs of the nation.

After reviewing the full range of potential Army stationing locations, three alternatives for implementing the proposed action have been identified by the Army as reasonable alternatives capable of meeting the Army's needs and screening criteria. Alternatives for implementing the proposed action included: (1) Permanently stationing the 2/25th SBCT at Schofield Barracks Military Reservation while conducting required training at military training sites in Hawaii; (2) permanently stationing the 2/25th SBCT at Fort Richardson while conducting required training at military training sites in Alaska; and (3) permanently stationing the 2/25th SBCT at Fort Carson while conducting required training at military training sites in Colorado. In addition to these alternatives, the No Action alternative, which provides the baseline conditions for comparison to the proposed alternative, was fully assessed and considered.

Direct, indirect, and cumulative impacts of the proposed action have been considered in the FEIS along with public comments received during scoping and on the Draft EIS published in July 2007. The EIS identifies impacts at each of the three alternative locations that would occur as a result of implementing the proposed action and responds to public comments. Impacts at alternative sites would result from construction and training activities. Each of the impacts can be mitigated.

The Army invited full public participation to promote open communication and better decision making. All persons and organizations that have an interest in the permanent stationing of the 2/25th SBCT were urged to participate in this NEPA evaluation process. The public has provided input and comments at scoping meetings and public meetings held at all potential alternative stationing locations for the 2/25th. The Army held scoping meetings in January and February 2007 and Draft EIS meetings in September and October 2007. Responses to the public comments are addressed in this FEIS.

The FEIS is available for review at http://www.aec.army.mil.
Dated: February 15, 1008.
Addison D. Davis, IV,
Deputy Assistant Secretary of the Army, (Environment, Safety and Occupational Health).

[FR Doc. 08-793 Filed 2-21-08: 8:45 am]

BILLING CODE 3170-08-M